FEDERAL COMMUNICATIONS COMMISSION

47 CFR Part 73

[DA 01-631, MM Docket No. 99-329, RM-9701]

Radio Broadcasting Services; Avalon, Fountain Valley, Adelanto, Ridgecrest and Riverside, CA

AGENCY: Federal Communications Commission.

ACTION: Final rule.

SUMMARY: The Commission grants, at the request of Amaturo Group of L.A., Ltd., licensee of Stations KLIT(FM), Avalon, California, KELT(FM), Riverside, California and KMLT, Thousand Oaks, California, the reallotment of Channel 224A from Avalon to Fountain Valley, as that community's first local aural transmission service, and modification of the station's authorization accordingly, the reallotment of Channel 224A from Riverside to Adelanto, California, as that community's first local aural transmission service, and modification of that station's authorization accordingly, the substitution of Channel 224A for Channel 224B1 at Ridgecrest at a newly specified transmitter site, and modification of the authorization of Station KZIQ-FM, and a change in the reference coordinates of Station KMLT, Thousand Oaks, to avoid a short spacing to the proposed reallotment of Channel 224A to Fountain Valley, California. See 64 FR 68665 (December 8, 1999). Consistent with the minimum distance separation requirements of Section 73.207(b) and the principal community coverage requirements of Section 73.315(a) of the Commission's Rules, Channel 224A can be allotted to Fountain Valley, at petitioner's requested site 9.9 kilometers (6.1 miles) south of the community at coordinates 33-36-56 NL and 117-55-33 WL. Channel 224A can be allotted to Adelanto at petitioner's requested site 8.9 kilometers (5.5 miles) west of the community at coordinates 34-36-11 NL and 117-28-01 WL. The reference coordinates of Channel 224A, Thousand Oaks can be revised to 34-13-05 NL and 118-56-42 WL. The downgrade to Channel 224A at Ridgecrest can be accomplished at petitioner's requested site 1.5 kilometers west of the community at coordinates 35-37-27 NL and 117-41-10 WL. Additionally, concurrence of the Mexican government has been obtained for the allotments at Fountain Valley and Adelanto.

DATES: Effective April 23, 2001.

FOR FURTHER INFORMATION CONTACT: Victoria M. McCauley, Mass Media Bureau, (202) 418-2180.

SUPPLEMENTARY INFORMATION: This is a synopsis of the Commission's Report and Order, MM Docket No. 99-329, adopted February 28, 2001, and released March 9, 2001. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b) the FM Table of Allotments under California is amended by removing Avalon, Channel 224A and adding Fountain Valley, Channel 224A, by removing Channel 224A at Riverside and adding Adelanto, Channel 224A, and by removing Channel 224B1 at Ridgecrest and adding Channel 224A at Ridgecrest.

Federal Communications Commission.
John A. Karousos,
Chief, Allocations Branch, Policy and Rules Division, Mass Media Bureau.

[FR Doc. 01-7612 Filed 3-27-01; 8:45 am]

BILLING CODE 6712-01-P